FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 24, 2017.

A. Federal Reserve Bank of Kansas City (Dennis Denney, Assistant Vice President) 1 Memorial Drive, Kansas City, Missouri 64198-0001:

1. Susan Schardt, Kearney, Nebraska, individually, and as co-trustee of the following trusts: Brian Schardt Trust No. 2; the Christina Nokelby Trust No. 2; the Kimberly Schardt Porter Trust No. 2; and the Rebecca Rathjen Trust No. 2, and as a member of the Schardt Family Group; to acquire shares of Bank Management, Inc., Wahoo, Nebraska and thereby indirectly acquire voting shares of First Bank of Nebraska, Wahoo, Nebraska.

2. Susan Schardt, Kearney, Nebraska, individually, and as co-trustee of the following trusts: Brian Schardt Trust No. 2; the Christina Nokelby Trust No. 2; the Kimberly Schardt Porter Trust No. 2; and the Rebecca Rathjen Trust No. 2; to acquire voting shares of Exchange Company, Kearney, Nebraska, and thereby indirectly acquire voting shares of Exchange Bank, Gibbon, Nebraska.

B. Federal Reserve Bank of Dallas (Robert L. Triplett III, Senior Vice President) 2200 North Pearl Street, Dallas, Texas 75201-2272:

1. Robert G. Good, Corrales, New Mexico; and Robert G. Good, M. Carolyn Good, Los Ranchos, New Mexico, the Good Living Trust/Family Trust, Los Ranchos, New Mexico, Cynthia Alysce Good, Andover, Massachusetts, the 2005 Natalie Grace Good Trust, Andover, Massachusetts, and Thomas Cody Graves, the Lisa L. Graves Heritage Trust, the Cody Clark Graves Heritage Trust, and the Debra L. Graves Bridges Heritage Trust, all of Goldthwaite, Texas, as a group acting in concert (the Good-Graves Family Group); to retain voting shares of Goldthwaite Bancshares, Inc., Goldthwaite, Texas, and thereby retain shares of Mills County State Bank, Goldthwaite, Texas.

Board of Governors of the Federal Reserve System, October 4, 2017.
Ann Misback,
Secretary of the Board.

[FR Doc. 2017-21792 Filed 10-10-17; 8:45 am]

BILLING CODE P